DEPARTMENT OF ENERGY

Federal Energy Regulatory Commission

Combined Notice of Filings

Take notice that the Commission has received the following Natural Gas Pipeline Rate and Refund Report filings:

Filings Instituting Proceedings

Docket Numbers: PR24-61-000.

Applicants: Southwest Gas Corporation.

Description: 284.123(g) Rate Filing: Amended SOC for Blanket Certificate to be effective 3/26/2024.

Filed Date: 3/26/24.

Accession Number: 20240326-5230.

Comment Date: 5 p.m. ET 4/16/24.

284.123(g) Protest: 5 p.m. ET 5/28/24.

Docket Numbers: RP24-572-000.

Applicants: El Paso Natural Gas Company, L.L.C.

Description: 4(d) Rate Filing: Negotiated Rate Agreements Update (Pioneer Apr 2024) to be effective 4/1/2024.

Filed Date: 3/26/24.

Accession Number: 20240326-5207.

Comment Date: 5 p.m. ET 4/8/24.

Docket Numbers: RP24-573-000.

Applicants: Northern Border Pipeline Company.

Description: 4(d) Rate Filing: Negotiated Rate Agreements—BP Energy 274725 and Sequent TL369_101322 to be effective 4/1/2024.

Filed Date: 3/26/24.

Accession Number: 20240326-5208.

Comment Date: 5 p.m. ET 4/8/24.

Docket Numbers: RP24-574-000.

Applicants: Southern Star Central Gas Pipeline, Inc.

Description: 4(d) Rate Filing: Vol. 2—Neg. and Conforming Rate Agreements—Tenaska PLS to be effective 4/1/2024.

Filed Date: 3/26/24.

Accession Number: 20240326-5218.

Comment Date: 5 p.m. ET 4/8/24.

Docket Numbers: RP24-575-000.

Applicants: Gulf Shore Energy Partners, LP.

Description: 4(d) Rate Filing: Gulf Shore Energy—Tariff Revisions to be effective 5/1/2024.

Filed Date: 3/26/24.

Accession Number: 20240326-5225.

Comment Date: 5 p.m. ET 4/8/24.

Docket Numbers: RP24-576-000.

Applicants: Trailblazer Pipeline Company LLC.

Description: Compliance filing: TPC 2024-03-26 Penalty Revenues Refund Report to be effective N/A.

Filed Date: 3/26/24.

Accession Number: 20240326-5231.

Comment Date: 5 p.m. ET 4/8/24.

Docket Numbers: RP24-577-000.

Applicants: El Paso Natural Gas Company, L.L.C.

Description: 4(d) Rate Filing: Non-Conforming Amendment Filing (Phillips 66) to be effective 5/1/2024.

Filed Date: 3/26/24.

Accession Number: 20240326-5243.

Comment Date: 5 p.m. ET 4/8/24.

Docket Numbers: RP24-578-000.

Applicants: Iroquois Gas Transmission System, L.P.

Description: 4(d) Rate Filing: 3.27.24 Negotiated Rates—Macquarie Energy LLC R-4090-31 to be effective 4/1/2024.

Filed Date: 3/27/24.

Accession Number: 20240327-5062.

Comment Date: 5 p.m. ET 4/8/24.

Docket Numbers: RP24-579-000.

Applicants: Horizon Pipeline Company, L.L.C.

Description: Compliance filing: Horizon Penalty Revenue Crediting Report for Year 2023 to be effective N/A.

Filed Date: 3/27/24.

Accession Number: 20240327-5118.

Comment Date: 5 p.m. ET 4/8/24.

Docket Numbers: RP24-580-000.

Applicants: Natural Gas Pipeline Company of America LLC.

Description: Compliance filing: Penalty Revenue Crediting Report July Through December 2023 to be effective N/A.

Filed Date: 3/27/24.

Accession Number: 20240327-5119.

Comment Date: 5 p.m. ET 4/8/24.

Docket Numbers: RP24-581-000.

Applicants: Midcontinent Express Pipeline LLC.

Description: 4(d) Rate Filing: FTS Negotiated Rate (DTE, Gunvor, Mercuria) to be effective 4/1/2024.

Filed Date: 3/27/24.

Accession Number: 20240327-5125.

Comment Date: 5 p.m. ET 4/8/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-457-002.

Applicants: Tallgrass Interstate Gas Transmission, LLC.

Description: Tariff Amendment: TIGT 2024-03-27 RP24-457 Second Amendment to be effective 4/1/2024.

Filed Date: 3/27/24.

Accession Number: 20240327-5128.

Comment Date: 5 p.m. ET 4/3/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 27, 2024.
Debbie-Anne A. Reese,
Acting Secretary.

[FR Doc. 2024-06950 Filed 4-1-24; 8:45 am]

BILLING CODE 6717-01-P